DEPARTMENT OF HEALTH AND HUMAN SERVICES

Centers for Disease Control and Prevention

Disease, Disability, and Injury Prevention and Control, Special Emphasis Panel (SEP): Establishing a Surveillance System for Chronic Kidney Disease in the US, Program Announcement Number PEP 2006-R-08

In accordance with Section 10(a)(2) of the Federal Advisory Committee Act (Pub. L. 92-463), the Centers for Disease Control and Prevention (CDC) announces the following meeting:

Name: Disease, Disability, and Injury Prevention and Control, Special Emphasis Panel (SEP): Establishing a Surveillance System for Chronic Kidney Disease in the US, Program Announcement Number PEP 2006-R-08.

Time and Date: 1 p.m.-2 p.m., May 17, 2006 (Closed).

Place: Teleconference.

Status: The meeting will be closed to the public in accordance with provisions set forth in Section 552b(c) (4) and (6), Title 5 U.S.C., and the Determination of the Director, Management Analysis and Services Office, CDC, pursuant to Public Law 92-463.

Matters to be Discussed: To conduct expert review of scientific and technical merit of research applications in response to Impact of DRG 559 on Costs, Quality and Patient Outcomes of Stroke Care, Program Announcement Number PEP 2006-R-08.

For Further Information Contact: Felix Rogers, PhD, M.P.H., Scientific Review Administrator, CDC, 1600 Clifton Road NE, Mailstop E05, Atlanta, GA 30333, Telephone (404) 639-6101.

The Director, Management Analysis and Services Office, has been delegated the authority to sign Federal Register notices pertaining to announcements of meetings and other committee management activities, for both CDC and the Agency for Toxic Substances and Disease Registry.

Dated: April 4, 2006.
Alvin Hall,
Director, Management Analysis and Services Office, Centers for Disease Control and Prevention.

[FR Doc. E6-5167 Filed 4-7-06; 8:45 am]

BILLING CODE 4163-18-P